DEPARTMENT OF HOMELAND SECURITY

Coast Guard

33 CFR Part 100

[Docket No. CGD05-07-069]

Special Local Regulations for Marine Events; Susquehanna River, Port Deposit, MD

AGENCY: Coast Guard, DHS.

ACTION: Notice of enforcement.

SUMMARY: The Coast Guard will enforce special local regulations during the “Ragin' on the River” power boat race to be held Labor Day weekend, September 1 and 2, 2007, on the waters of the Susquehanna River, adjacent to Port Deposit, Maryland. This action is necessary to provide for the safety of life on navigable waters during the event. The effect will be to restrict general navigation in the regulated area for the safety of participants and vessels transiting the event area.

DATES: The regulations in 33 CFR 100.535 will be enforced from 10:30 a.m. on September 1, 2007 through 6:30 p.m. on September 2, 2007. If the event is postponed due to inclement weather this section will be enforced from 10:30 a.m. to 6:30 p.m. on Monday, September 3, 2007.

FOR FURTHER INFORMATION CONTACT: Ronald Houck, Coast Guard Sector Baltimore, Prevention Department, at (410) 576-2674 or e-mail at Ronald.L.Houck@uscg.mil.

SUPPLEMENTARY INFORMATION: The Coast Guard will enforce the special local regulations for the annual “Ragin' on the River” power boat race held on the waters of the Susquehanna River in 33 CFR 100.535 from 10:30 a.m. on September 1, 2007 through 6:30 p.m. on September 2, 2007. If the event is postponed due to inclement weather this section will be enforced from 10:30 a.m. to 6:30 p.m. on Monday, September 3, 2007.

Annually, during Labor Day weekend, the Port Deposit, Maryland Chamber of Commerce sponsors this event. The marine event consists of approximately 60 inboard hydroplanes and runabouts racing in heats counter-clockwise around an oval racecourse. A fleet of spectator vessels is anticipated to gather nearby to view the competition. Due to the need for vessel control during the event, vessel traffic will be temporarily restricted to provide for the safety of participants, spectators and transiting vessels. In order to ensure the safety of the event participants and transiting vessels, 33 CFR 100.535 will be in effect for the duration of the event. Under provisions of 33 CFR 100.535, a vessel may not enter the regulated area unless it receives permission from the Coast Guard Patrol Commander. The Coast Guard may be assisted by other State or local law enforcement agencies in enforcing this regulation.

This notice is issued under authority of 33 CFR 100.535 and 5 U.S.C. 552(a). In addition to this notice, the maritime community will be provided extensive advance notification via the Local Notice to Mariners, marine information broadcasts, local radio stations and area newspapers, so mariners can adjust their plans accordingly.

Dated: August 6, 2007.
Fred M. Rosa, Jr.,
Rear Admiral, U.S. Coast Guard, Commander, Fifth Coast Guard District.

[FR Doc. E7-15971 Filed 8-14-07; 8:45 am]

BILLING CODE 4910-15-P